FEDERAL COMMUNICATIONS COMMISSION

Notice of Public Information Collection(s) Being Reviewed by the Federal Communications Commission, Comments Requested

August 19, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before October 29, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0824.

Title: Service Provider Identification Number and Contact Form.

Form No.: FCC Form 498.

Type of Review: Revision of a currently approved collection.

Respondents: Business or other for-profit, and not-for-profit institutions.

Number of Respondents: 5,000.

Estimated Time per Response: 2 hours.

Frequency of Response: On occasion reporting requirement, and third party disclosure requirement.

Total Annual Burden: 10,000 hours.

Total Annual Cost: N/A.

Privacy Act Impact Assessment: N/A.

Needs and Uses: The Administrator of the universal service program must obtain contact and remittance information from service providers participating in the universal service high cost, low income, rural health care, and schools and libraries programs. The Administrator uses the FCC Form 498 to collect service providers' name, phone numbers, other contact information, and remittance information from universal service fund participants to enable the Administrator to perform its universal service disbursement functions under 47 CFR part 54. FCC Form 498 also allows fund participants to direct remittance to third parties or receives payments directly from the Administrator. This collection is being revised to add a reference to 18 U.S.C. 1001 concerning punishment for willful false statements.

OMB Control Number: 3060-0853.

Title: Receipt of Service Confirmation Form; Certification by Administrative Authority to Billed Entity of Compliance with Children's Internet Protection Act (CIPA)—Universal Service for Schools and Libraries; Certifications for Libraries Unwilling to Make a CIPA Certification for 2003.

Form No.: FCC Forms 479, 486 and 500.

Type of Review: Revision of a currently approved collection.

Respondents: Business or other for-profit, and not-for-profit institutions.

Number of Respondents: 40,000.

Estimated Time per Response: 1.5-2 hours.

Frequency of Response: On occasion and annual reporting requirements, and third party disclosure requirement.

Total Annual Burden: 75,000 hours.

Total Annual Cost: N/A.

Privacy Act Impact Assessment: N/A.

Needs and Uses: The Telecommunications Act of 1996, as amended, contemplates that schools and libraries should be able to acquire Internet access and other telecommunications services on a discounted basis, and that the schools and libraries should seek reimbursement from the Universal Service Fund (Fund) for the services and equipment acquired. FCC Form 486 is necessary to confirm that recipients of schools and libraries funding adhere to the requirements of the Children's Internet Protection Act (CIPA) and to allow schools and libraries to confirm that they have received, or are scheduled to receive, the applied-for eligible services, so that invoicing may proceed. FCC Form 479 is necessary to confirm that schools and libraries that are part of a consortium adhere to the requirements of CIPA. FCC Form 500 permits schools and libraries to modify their filed records to reflect reductions in the funding they are due, or to modify the beginning or ending dates for the eligible services for which they will request reimbursement. This collection is being revised to require additional expanded certifications and information that will not cause an increase in the burden. The 486t form is being removed from this collection because it was a temporary form that is no longer needed.

OMB Control Number: 3060-0856.

Title: Universal Service—Schools and Libraries Universal Service Program Reimbursement Forms.

Form No.: FCC Forms 472, 473 and 474.

Type of Review: Revision of a currently approved collection.

Respondents: Business or other for-profit, and not-for-profit institutions.

Number of Respondents: 39,300.

Estimated Time per Response: 1.5 hours.

Frequency of Response: On occasion and annual reporting requirements, and third party disclosure requirement.

Total Annual Burden: 58,950 hours.

Total Annual Cost: N/A.

Privacy Act Impact Assessment: N/A.

Needs and Uses: The Telecommunications Act of 1996, as amended, contemplates that schools and libraries should be able to acquire Internet access and other telecommunications services on a discounted basis, and that the schools and libraries should seek reimbursement from the Universal Service Fund (Fund) for the services and equipment acquired. FCC Form 472 is necessary so that the schools and libraries can confirm that they are receiving, or have received, the eligible services, and that they have filed the proper documents for reimbursement from the Fund. FCC Forms 473 and 474 facilitate the reimbursement process by giving the providers of eligible services to schools and libraries a means to confirm that their invoices are in compliance with the Commission's rules. This collection is being revised to require additional expanded certifications and information that will not cause an increase in the burden.

OMB Control Number: 3060-0852.

Title: Application for Transfer of Control of a Multipoint Distribution Service Authorization.

Form No.: FCC Form 306.

Type of Review: Revision of a currently approved collection.

Respondents: Business or other for-profit, and not-for-profit institutions.

Number of Respondents: 20.

Estimated Time per Response: 58 hours (15.2 hours—transferor, 40.8 hours—transferee, and 2.0 hours—licensee).

Frequency of Response: On occasion reporting requirement.

Total Annual Burden: 110 hours.

Total Annual Cost: $211,275.

Privacy Act Impact Assessment: N/A.

Needs and Uses: FCC Form 306 is to be used to apply for authority to transfer control of an Multipoint Distribution Service (MDS) Authorization pursuant to 47 CFR 21.11, 21.38 and 21.39. The data is used by FCC staff to determine if the applicant is qualified to become a Commission licensee or permittee and to carry out the statutory provisions of section 310(d) of the Communications Act of 1934, as amended.

The Commission is now revising FCC Form 306 to request additional information to complete the Universal Licensing System (ULS) data elements since MDS/Instructional Television Fixed Service (ITFS) has been implemented into ULS. Additional information such as the licensee's e-mail address, fax number, type of applicant, contact's e-mail address and fax number will be added to this collection.

There will also be clarification of data elements, instructions and corrections of mailing addresses and web sites.

There is no change to the estimated average burden or number of respondents.

OMB Control Number: 3060-0851.

Title: Application for Assignment of a Multipoint Distribution Service Authorization.

Form No.: FCC Form 305.

Type of Review: Revision of a currently approved collection.

Respondents: Business or other for-profit, and not-for-profit institutions.

Number of Respondents: 160.

Estimated Time per Response: 55 hours (14.2 hours—assignor; 40.8 hours—assignee).

Frequency of Response: On occasion reporting requirement.

Total Annual Burden: 800 hours.

Total Annual Cost: $1,610,350.

Privacy Act Impact Assessment: N/A.

Needs and Uses: FCC Form 305 is to be used to apply for authority to assign an Multipoint Distribution Service (MDS) Authorization pursuant to 47 CFR 21.11, 21.38 and 21.39. The data is used by FCC staff to determine if the applicant is qualified to become a Commission licensee or permittee and to carry out the statutory provisions of section 310(d) of the Communications Act of 1934, as amended.

The Commission is now revising FCC Form 305 to request additional information to complete the Universal Licensing System (ULS) data elements since MDS/Instructional Television Fixed Service (ITFS) has been implemented into ULS. Additional information such as the licensee's e-mail address, fax number, type of applicant, contact's e-mail address and fax number will be added to this collection. There will also be clarification of data elements, instructions and corrections of mailing addresses and Web sites.

There is no change to the estimated average burden or number of respondents.

Federal Communications Commission.
Marlene H. Dortch,
Secretary.

[FR Doc. 04-19744 Filed 8-27-04; 8:45 am]

BILLING CODE 6712-01-P